DEPARTMENT OF COMMERCE

International Trade Administration

[A-588-604]

Tapered Roller Bearings and Parts Thereof, Finished and Unfinished, From Japan: Amended Final Results of Antidumping Duty Administrative Review Pursuant to Final Court Decision

AGENCY: Import Administration, International Trade Administration, Department of Commerce.

ACTION: Notice of Final Court Decision and Amended Final Results of Antidumping Duty Administrative Review.

SUMMARY: On June 13, 2003, the United States Court of International Trade (CIT) affirmed the Department of Commerce's (the Department's) redetermination on remand of the final results of the October 1, 1996 through September 30, 1997 administrative review of the antidumping duty order on tapered roller bearings (TRBs) and parts thereof, finished and unfinished, from Japan. See NTN Bearing Corporation of America, American NTN Bearing Corporation, NTN Bower, Inc. and NTN Corporation v. United States and The Timken Company, Court No. 98-12-03232, Slip Op. 03-65 (CIT June 13, 2003) (NTN II). On August 13, 2003, the respondent, NTN Corporation (NTN), appealed the CIT's decision to the Court of Appeals for the Federal Circuit (Federal Circuit). On October 27, 2003, the Federal Circuit dismissed NTN's appeal. See NTN Bearing Corporation of America, American NTN Bearing Corporation, NTN Bower, Inc. and NTN Corporation v. United States and The Timken Company, 03-1592 (Fed. Cir. October 27, 2003) (NTN CAFC). Because all litigation has concluded, the Department is now issuing these amended final results reflecting the CIT's decision.

EFFECTIVE DATE: February 17, 2004.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue, NW, Washington, DC 20230.

SUPPLEMENTARY INFORMATION:

Background

On November 17, 1998, the Department of Commerce (the Department) published the final results of its administrative reviews of the antidumping duty order on tapered roller bearings (TRBs) and parts thereof, finished and unfinished, from Japan (A-588-604) and the antidumping finding on TRBs, four inches or less in outside diameter, and components thereof, from Japan (A-588-054) for the period October 1, 1996 through September 30, 1997. See Tapered Roller Bearings and Parts Thereof, Finished and Unfinished, From Japan, and Tapered Roller Bearings, Four Inches or Less in Outside Diameter, and Components Thereof, From Japan; Final Results of Antidumping Duty Administrative Reviews, 63 FR 63860 (November 17, 1998) (1996-97 TRBs from Japan). NTN filed a lawsuit challenging these results¹ and the CIT issued an Order and Opinion dated January 24, 2003, remanding one issue to the Department. See NTN Bearing Corporation of America, American NTN Bearing Manufacturing Corporation, NTN Bower, Inc. and NTN Corporation v. United States and The Timken Company, 248 F. Supp. 2d 1256 (CIT January 24, 2003) (NTN I). Specifically, the CIT remanded the case to the Department to correct a clerical error resulting for the use of the incorrect level of trade adjustment factors for NTN's export price (EP) sales and to adjust the dumping margin accordingly. In accordance with the CIT's order in NTN I, the Department filed its remand results on April 14, 2003. On June 13, 2003, the CIT affirmed the Department's final results of remand redetermination and dismissed the litigation for Court No. 98-12-03232. See NTN II. On August 13, 2003, NTN appealed the CIT's decision to the Federal Circuit. On October 27, 2003, the Federal Circuit dismissed NTN's appeal. See NTN CAFC. Because all litigation has concluded, in accordance with NTN II, we are amending our final results of review in this matter and we will instruct U.S. Customs and Border Protection (CBP) to liquidate entries, as appropriate, in accordance with our remand results.

¹ NTN was not subject to the antidumping finding on TRBs, four inches or less in outside diameter, and components thereof, from Japan.

Amendment to Final Results

Pursuant to section 516A(e) of the Tariff Act of 1930, as amended, as there is now a final and conclusive court decision, we are now amending the final results of the 1996-97 administrative review of the antidumping duty order on TRBs and parts thereof, finished and unfinished, from Japan to reflect a revised weighted-average margin for NTN. We determine that the following revised weighted-average margin exists for NTN for the period October 1, 1996 through September 30, 1997:

Producer/Exporter | Period of Review | Weighted-Average Original: | Margin (%) Revised:
NTN | 10/1/1996 - 9/30/1997 | 19.78 | 15.64

Accordingly, the Department has determined and CBP will assess appropriate antidumping duties on the relevant entries of the subject merchandise from NTN covered by the review of the period listed above. The Department will issue assessment instructions directly to CBP within 15 days of publication of this notice.

Dated: February 6, 2004.
James J. Jochum,
Assistant Secretary for Import Administration.

[FR Doc. 04-3388 Filed 2-13-04; 8:45 am]

BILLING CODE 3510-DS-S